DEPARTMENT OF HEALTH AND HUMAN SERVICES

Centers for Disease Control and Prevention

Agency for Toxic Substances and Disease Registry Center for State, Tribal, Local, and Territorial Support (CSTLTS), CDC/ATSDR Tribal Advisory Committee (TAC) Meeting

AGENCY: Centers for Disease Control and Prevention (CDC), Agency for Toxic Substances and Disease Registry (ATSDR), Department of Health and Human Services (HHS).

ACTION: Notice of meeting.

SUMMARY: The Centers for Disease Control and Prevention (CDC)and Agency for Toxic Substances and Disease Registry (ATSDR) announces the Winter 2023 CDC/ATSDR Tribal Advisory Committee (TAC) meeting. The meeting is being hosted by CDC/ATSDR, in person and virtually, and is open to the public, except for certain hours set aside for tribal caucus. Pre-registration is required, and instructions are provided below in the dates section.

DATES: The meeting will be held on February 8, 2023, from 9 a.m. to 4 p.m., EST, and February 9, 2023, from 9 a.m. to 3:30 p.m., EST. Attendees must pre-register for the event by January 16, 2023, at the following link: https://www.cdc.gov/tribal/consultation-support/tac/meeting.html.

ADDRESSES: CDC, Global Communications Center, Building 21, Conference Rooms 1204A and 1204B, 1600 Clifton Road NE, Atlanta, Georgia 30329-4027.

FOR FURTHER INFORMATION CONTACT: Mitchell Morris, BA, Acting Director, Office of Tribal Affairs and Strategic Alliances, Center for State, Tribal, Local, and Territorial Support, CDC, 1600 Clifton Road NE, Mailstop V18-4, Atlanta, Georgia 30329-4027; Telephone: (770) 488-1518; Email: Tribalsupport@cdc.gov.

SUPPLEMENTARY INFORMATION:

The Tribal Advisory Committee (TAC) advises CDC/ATSDR on policy issues and broad strategies that may significantly affect American Indian and Alaska Native (AI/AN) communities. The TAC assists CDC/ATSDR in fulfilling its mission to promote health and quality of life by preventing and controlling disease, injury, and disability through established and ongoing relationships and consultation sessions.

Purpose: The purpose of the TAC meeting is to exchange information between tribal governments and CDC/ATSDR staff about public health issues in Indian country, identify urgent public health needs of American Indians and Alaska Natives, discuss collaborative approaches, and ensure that CDC/ATSDR activities or policies that impact AI/AN tribes are brought to the attention of tribal leaders. To advance these goals, CDC/ATSDR conducts government-to-government meetings with elected tribal officials or their authorized representatives. These meetings offer open and free exchange of information and opinion among parties that leads to mutual understanding.

Information about the TAC and previous meetings is available at https://www.cdc.gov/tribal/consultation-support/tac/index.html.

Matters to be Considered: The agenda will include discussions on tribal priorities for CDC and ATSDR, public health capacity in Indian country, and programmatic highlights. Agenda items are subject to change as priorities dictate.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-26957 Filed 12-12-22; 8:45 am]

BILLING CODE 4163-18-P